CONSUMER PRODUCT SAFETY COMMISSION

Sunshine Act Meetings Notice

TIME AND DATE: Wednesday May 18, 2016, 2:00 p.m.-4:00 p.m.

PLACE: Hearing Room 420, Bethesda Towers, 4330 East West Highway, Bethesda, Maryland.

STATUS: Commission Meeting—Open to the Public.

Matter To Be Considered

Decisional Matter: Fiscal Year 2016 Midyear Review and Proposed Operating Plan Adjustments

A live webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: May 10, 2016.
Todd A. Stevenson,
Secretariat.

[FR Doc. 2016-11341 Filed 5-10-16; 4:15 pm]

BILLING CODE 6355-01-P